Title 3—

The President

Proclamation 10835 of October 10, 2024

General Pulaski Memorial Day, 2024

By the President of the United States of America

A Proclamation

Today, we pay tribute to General Casimir Pulaski, a Polish immigrant who served alongside American soldiers in the Revolutionary War and made the ultimate sacrifice for our Nation. And we honor the culture and contributions of all our Nation's Polish Americans who follow his legacy, standing up for the cause of freedom at home and around the world.

General Pulaski dedicated his life to the pursuit of liberty—not just for himself or his country but for all of us. Born and raised in Warsaw, Poland, he fought against the Russian domination of Poland—efforts that ultimately led him to flee his home country. Later in life, when he was offered an opportunity to join another fight for liberty on the other side of the world, he took it—joining our Nation's fight for independence. General Pulaski's service was critical: He led a critical counterattack that helped slow the British, and during the course of the war, it was said that he even saved George Washington's life.

General Pulaski's story and service are just one example of how much Polish Americans have shaped our Nation's history and our future. Our country's Polish-American communities have helped create new possibilities for all of us—leading in every sector, powering our economy, and enriching our culture. They also strengthen our deep alliance and partnership with Poland and its people at a critical time in our history. Since Russia's brutal invasion of Ukraine, the people of Poland have courageously stood up for freedom, liberty, and justice, rallying around the Ukrainian people and offering them safety and light in their darkest moments. At the same time, Poland has donated tanks, artillery, and aircraft to support Ukraine's self-defense all while becoming an important hub for aid from key partners.

No one knows better than the people of Poland that, in moments of great upheaval and uncertainty, what you stand for is important and who you stand with makes all the difference. Today, we celebrate General Casimir Pulaski, who decided to stand with our Nation to fight for our freedoms. And we honor all the Polish Americans, who continue to push our Nation forward and fight for a future based on our most fundamental values: dignity, liberty, and opportunity.

NOW, THEREFORE, I, JOSEPH R. BIDEN JR., President of the United States of America, by virtue of the authority vested in me by the Constitution and laws of the United States, do hereby proclaim October 11, 2024, as General Pulaski Memorial Day. I encourage all Americans to commemorate this occasion with appropriate programs and activities paying tribute to General Casimir Pulaski, honoring all those who champion freedom around the world, and celebrating the vast contributions of the Polish American communities.

IN WITNESS WHEREOF, I have hereunto set my hand this tenth day of October, in the year of our Lord two thousand twenty-four, and of the Independence of the United States of America the two hundred and forty-ninth.

[FR Doc. 2024-23963

Filed 10-11-24; 2:00 pm]

Billing code 3395-F4-P